DEPARTMENT OF THE INTERIOR

Fish and Wildlife Service

Endangered Species Permit Applications

AGENCY: Fish and Wildlife Service, DOI.

ACTION: Notice of receipt of permit applications.

SUMMARY: The following applicants have applied for a scientific research permit to conduct certain activities with endangered species pursuant to section 10 (a)(1)(A) of the Endangered Species Act of 1973, as amended (16 USC 1531 et seq.).

Permit No. TE-776608

Applicant: Monk and Associates, Walnut Creek, California.

The applicant requests a permit to take (capture and handle) the California tiger salamander (Ambystoma californiense) in conjunction with presence or absence surveys in Santa Barbara County, California for the purpose of enhancing its survival.

Permit No. TE-025200

Applicant: Kathleen L. Whitney, Santa Barbara, California.

The applicant requests a permit to take (harass by survey, locate and monitor nests, capture, band, and release) the southwestern willow flycatcher (Empidonax traillii extimus) and take (monitor nests, capture, band, and release) the least Bell's vireo (Vireo bellii pusillus) in conjunction with scientific research through out each species range in California for the purpose of enhancing their survival.

Permit No. TE-025197

Applicant: Lockheed Martin Environmental Services, Las Vegas, Nevada.

The applicant requests a permit to take (harass by survey, capture and handle, collect tissue samples, and collect voucher specimens) the razorback sucker (Xyrauchen texanus) and Colorado squawfish (Ptychocheilus lucius) in conjunction with presence or absence surveys and scientific research throughout each species range for the purpose of enhancing their survival.

Permit No. TE-025394

Applicant: David B. Waller, San Diego, California.

The applicant requests a permit to take (survey by pursuit) the Quino checkerspot butterfly (Euphydryas editha quino) in conjunction with presence or absence surveys throughout its range for the purpose of enhancing its survival.

Permit No. TE-837308

Applicant: John K. Konecny, Escondido, California.

The permittee requests an amendment to his permit to: take (harass by survey) the Yuma clapper rail (Rallus longirostris yumanensis); take (harass by survey, locate and monitor nests, capture, band, and release) the southwestern willow flycatcher (Empidonax traillii extimus); and take (monitor nests, capture, band, and release) the least Bell's vireo (Vireo bellii pusillus) in conjunction with surveys and population monitoring throughout each species range in the State of Arizona for the purpose of enhancing their survival.

Permit No. TE-826200

Applicant: California Department of Parks and Recreation, Bay Area District, Pescadero, California.

The permittee requests an amendment to his permit to take (capture) the San Francisco garter snake (Thamnophis sirtalis tetrataenia) and take (capture, mark) the California red-legged frog (Rana aurora draytonii) in conjunction with population monitoring and habitat enhancement within Ano Nuevo State Park, California for the purpose of enhancing their survival.

Permit No. TE-025434

Applicant: Russell N. Holmes, Bureau of Land Management, Roseburg, Oregon.

The applicant requests a permit to remove and reduce to possession specimens of Plagiobothrys hirtus (rough popcornflower) in conjunction with recovery efforts within Douglas County, Oregon for the purpose of enhancing its survival.

Permit No. TE-025732

Applicant: Samuel S. Sweet, University of California, Santa Barbara, California.

The applicant requests a permit to take (capture and handle) the California tiger salamander (Ambystoma californiense) in conjunction with presence or absence surveys in Santa Barbara County, California for the purpose of enhancing its survival.

Permit No. TE-025944

Applicant: Chris Farmer, Santa Barbara, California.

The applicant requests a permit to: take (harass by survey and monitor nests) the southwestern willow flycatcher (Empidonax traillii extimus); take (monitor nests) the least Bell's vireo (Vireo bellii pusillus); and take (harass by survey) the California least tern (Sterna antillarum browni) in conjunction with presence or absence surveys throughout each species range in California for the purpose of enhancing their survival.

Permit No. TE-026485

Applicant: Dr. David Kingsley, Stanford University School of Medicine, Stanford, California.

The applicant requests a permit to take (capture, handle, and collect) the unarmored threespine stickleback (Gasterosteus aculeatus williamsoni) in conjunction with genetic research throughout the species range in California for the purpose of enhancing its survival.

DATES: Written comments on these permit applications must be received on or before June 12, 2000.

ADDRESSES: Written data or comments should be submitted to the Chief, Endangered Species, Ecological Services, Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Thomas J. Dwyer,
Acting Regional Director, Region 1, Portland, Oregon.

[FR Doc. 00-11796 Filed 5-10-00; 8:45 am]

BILLING CODE 4310-55-P